DEPARTMENT OF THE INTERIOR

Bureau of Indian Affairs

Notice of Intent To Prepare an Environmental Impact Statement for the Proposed Timbisha Shoshone Tribe's Trust Acquisition and Casino Project, San Bernardino County, California

AGENCY: Bureau of Indian Affairs, Interior.

ACTION: Notice.

SUMMARY: This notice advises the public that the Bureau of Indian Affairs (BIA), with the cooperation of the Timbisha Shoshone Tribe (Tribe), intends to gather information necessary for preparing an Environmental Impact Statement (EIS) for a proposed 58+ acre trust acquisition and casino development project to be located in the City of Hesperia, San Bernardino County, California. The purpose of the proposed action is to help provide for the economic development of the Tribe. This notice also announces a public scoping meeting to identify potential issues and content for inclusion in the EIS.

DATES: Written comments on the scope and implementation of this proposal must arrive by May 5, 2004. The public scoping meeting will be held April 21, 2004, from 6 to 9 p.m., or until the last public comment has been submitted.

ADDRESSES: You may mail or hand carry written comments to Clay Gregory, Acting Regional Director, Pacific Regional Office, Bureau of Indian Affairs, 2800 Cottage Way, Sacramento, California 95825. The public scoping meeting will be held at the Percy Bakker Senior Center, 9393 E Avenue, Hesperia, California.

FOR FURTHER INFORMATION CONTACT: William Allan, (916) 978-6043.

SUPPLEMENTARY INFORMATION: The Tribe proposes that a 58+ acre parcel of land be taken into trust and that a casino, parking, hotel, and other facilities supporting the casino be built on the property. The project site is located west of Interstate 15, south of Main Street, and immediately east of Mesa Linda Street inside the incorporated City of Hesperia, San Bernardino County. It is within 3 miles of Main Street and Interstate 15. The City of Victorville is located approximately 8 miles north of the project site, which is also accessible from Interstate 15.

Phase I of the proposed action includes the development of a 182,000+ square foot casino complex, which would consist of a porte cochere, an approximately 61,000 square foot main gaming hall, food and beverage facilities, small retail shops, and administrative space. Approximately 3,406 parking spaces would be provided for the complex. Primary access to the complex would be via Interstate 15.

Phase II of the proposed action includes the construction of an approximately 300-room hotel with a dual plumbing system for the use of potable and recycled water. Approximately 180 parking spaces would be dedicated for the hotel. The hotel is anticipated to be operational no sooner than the middle of year 3-4 of the project. Primary vehicle access to the hotel would be via the main casino and surface-parking driveway.

Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. The range of issues addressed may be expanded based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: March 26, 2004.
Dave Anderson,
Assistant Secretary—Indian Affairs.

[FR Doc. 04-7935 Filed 4-6-04; 8:45 am]

BILLING CODE 4310-W7-P